DEPARTMENT OF COMMERCE

International Trade Administration

[A-570-985]

Xanthan Gum From the People's Republic of China: Preliminary Results of the Antidumping Duty Administrative Review, Rescission, in Part, and Preliminary Determination of No Shipments; 2023-2024

AGENCY: Enforcement and Compliance, International Trade Administration, Department of Commerce.

SUMMARY: The U.S. Department of Commerce (Commerce) preliminarily determines that both of the exporters under review did not make sales of subject merchandise at less than normal value and that Deosen Biochemical Ltd. had no shipments of subject merchandise during the period of review (POR) July 1, 2023, through June 30, 2024. In addition, we are rescinding this review, in part, with respect to CP Kelco (Shandong) Biological Company Limited (CP Kelco Shandong). Interested parties are invited to comment on these preliminary results.

DATES: Applicable January 9, 2026.

FOR FURTHER INFORMATION CONTACT: Joseph Molokwu, AD/CVD Operations, Office IV, Enforcement and Compliance, International Trade Administration, U.S. Department of Commerce, 1401 Constitution Avenue NW, Washington, DC 20230; telephone: (202) 482-8043.

SUPPLEMENTARY INFORMATION:

Background

On July 19, 2013, Commerce published in the Federal Register the antidumping duty (AD) order on xanthan gum from the People's Republic of China (China).¹ On July 1, 2024, Commerce published in the Federal Register a notice of opportunity to request an administrative review of the AD order on xanthan gum from China.² Between July 26 and July 31, 2024, Commerce received requests to conduct administrative reviews.³ Commerce published the Initiation Notice of this administrative review of the Order on August 14, 2024, where we initiated a review for 14 companies.⁴ On December 9, 2024, Commerce tolled certain deadlines in this administrative review by 90 days.⁵ On June 4, 2025, Commerce extended the deadline for these preliminary results by 120 days until October 29, 2025.⁶

¹ See Xanthan Gum from the People's Republic of China: Amended Final Determination of Sales at Less Than Fair Value and Antidumping Duty Order, 78 FR 43143 (July 19, 2013) (Order).

² See Antidumping or Countervailing Duty Order, Finding, or Suspended Investigation; Opportunity To Request Administrative Review and Join Annual Service Inquiry Service List, 89 FR 54437 (July 1, 2024).

³ See Meihua Group International Trading (Hong Kong) and Jilin Meihua Amino Acid, Co., Ltd's Letter, “Request for Administrative Review,” dated July 26, 2024; see also Deosen Biochemical (Ordos) Ltd.'s Letter, “Request for Administrative Review,” dated July 29, 2024; Jianlong Biotechnology Co. Ltd. (formerly, Inner Mongolia Jianlong Biochemical Co., Ltd.)'s (Jianlong) Letter, “AD Administrative Review Request,” dated July 29, 2024; CP Kelco U.S., Inc.'s (the petitioner) Letter, “Request for Administrative Review,” dated July 31, 2024; CP Kelco (Shandong) Biological Company Limited (CP Kelco Shandong)'s Letter, “Request for Administrative Review,” dated July 31, 2024; ADI ChemTech, LLC, Marietta, Georgia Letter, “Request for Administrative Review,” dated July 31, 2024; Ningxia Top Hydrocolloids Co., Ltd.'s Letter, “Request for Administrative Review,” dated July 31, 2024; and Neimenggu Fufeng Biotechnologies Co., Ltd. (aka Inner Mongolia Fufeng Biotechnologies Co., Ltd.)'s Letter, “Neimenggu Fufeng's Request for Antidumping Administrative Review,” dated July 31, 2024.

⁴ See Initiation of Antidumping and Countervailing Duty Administrative Reviews, 89 FR 66035 (August 14, 2024) (Initiation Notice).

⁵ See Memorandum, “Tolling of Deadline for Antidumping and Countervailing Duty Proceedings,” dated December 9, 2024.

⁶ See Memorandum, “Extension of Deadline for Preliminary Results of Antidumping Duty Administrative Review,” dated June 4, 2025.

Due to the lapse in appropriations and Federal Government shutdown, on November 14, 2025, Commerce tolled all deadlines in administrative proceedings by 47 days.⁷ Additionally, due to a backlog of documents that were electronically filed via Enforcement and Compliance's Antidumping and Countervailing Duty Centralized Electronic Service System (ACCESS) during the Federal Government shutdown, on November 24, 2025, Commerce tolled all deadlines in administrative proceedings by an additional 21 days.⁸ Accordingly, the deadline for these preliminary results is now January 5, 2026.

⁷ See Memorandum, “Deadlines Affected by the Shutdown of the Federal Government,” dated November 17, 2025.

⁸ See Memorandum, “Tolling of all Case Deadlines,” dated November 24, 2025.

For a complete description of the events that followed the initiation of this review, see the Preliminary Decision Memorandum.⁹ A list of the topics discussed in the Preliminary Decision Memorandum is attached as the appendix to this notice. The Preliminary Decision Memorandum is a public document and is made available to the public via ACCESS. ACCESS is available to registered users at https://access.trade.gov. In addition, a complete version of the Preliminary Decision Memorandum is available at https://access.trade.gov/public/FRNoticesListLayout.aspx.

⁹ See Memorandum, “Decision Memorandum for the Preliminary Results of the 2023-2024 Administrative Review of the Antidumping Duty Order of Xanthan Gum from the People's Republic of China,” dated concurrently with, and hereby adopted by, this notice (Preliminary Decision Memorandum).

Scope of the Order

The product covered by the Order includes dry xanthan gum, whether or not coated or blended with other products. For a full description of the scope of the Order, see the Preliminary Decision Memorandum.

Preliminary Determination of No Shipments

On September 13, 2024, Deosen Biochemical Ltd. filed timely certifications that it had no exports, shipments, sales, or entries of subject merchandise to the United States during the POR.¹⁰ Based on information obtained from U.S. Customs and Border Protection (CBP) and on Deosen Biochemical Ltd.'s no shipment certification, Commerce preliminarily determines that Deosen Biochemical Ltd. had no shipments of subject merchandise during the POR.¹¹

¹⁰ See Deosen Biochemical Ltd.'s Letter, “No Shipment Certification of Deosen Biochemical Ltd.,” dated September 13, 2024.

¹¹ See Memorandum, “Automated Commercial System Shipment Query,” dated August 19, 2024.

Consistent with Commerce's practice in non-market economy (NME) cases, we are not rescinding this administrative review with respect to Deosen Biochemical Ltd. but intend to complete the review and issue appropriate instructions to CBP based on the final results of the review.¹²

¹² See Non-Market Economy Antidumping Proceedings: Assessment of Antidumping Duties, 76 FR 65694 (October 24, 2011); and the “Assessment Rates” section, infra.

Rescission of Administrative Review, in Part

Pursuant to 19 CFR 351.213(d)(1), Commerce will rescind an administrative review, in whole or in part, if all parties that requested a review withdraw their requests within 90 days of the publication date of the notice of initiation of the requested review in the Federal Register. On November 8, 2024, CP Kelco Shandong timely withdrew its request for an administrative review of itself.¹³ Because no other party requested a review of CP Kelco Shandong, consistent with 19 CFR 351.213(d)(1), Commerce is rescinding this review, in part, with respect to CP Kelco Shandong.

¹³ See CP Kelco Shandong's Letter, “Withdrawal of Request for Administrative Review,” dated November 8, 2024.

Methodology

Commerce is conducting this review in accordance with section 751(a)(1)(B) of the Tariff Act of 1930, as amended (the Act). We calculated constructed export price in accordance with section 772 of the Act. Because China is an NME country within the meaning of section 771(18) of the Act, we calculated normal value in accordance with section 773(c) of the Act. For a full description of the methodology underlying these preliminary results, see the Preliminary Decision Memorandum.

Separate Rates

Commerce preliminarily determines that eight non-individually examined companies are eligible for a separate rate in this administrative review.¹⁴ The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. Section 735(c)(5)(A) of the Act states that the all-others rate should be calculated by averaging the weighted-average dumping margins calculated for individually-examined respondents, excluding dumping margins that are zero, de minimis, or based entirely on facts available. Where the rates for the individually examined companies are all zero, de minimis, or based entirely on facts available, section 735(c)(5)(B) of the Act provides that Commerce may use “any reasonable method” to establish the all-others rate.

¹⁴ See Preliminary Decision Memorandum at the “Separate Rate Determination” section for more details.

We preliminarily calculated a zero percent dumping margin for both the mandatory respondents in this review, i.e., Neimenggu Fufeng Biotechnologies Co., Ltd. (aka Inner Mongolia Fufeng Biotechnologies Co., Ltd.)/Shandong Fufeng Fermentation Co., Ltd./Xinjiang Fufeng Biotechnologies Co., Ltd. and Deosen Biochemical (Ordos) Ltd. Accordingly, we have preliminarily assigned this rate (i.e., 0.00 percent) to those companies that Commerce found preliminarily eligible to receive a separate rate in this review. For additional information, see the Preliminary Decision Memorandum.

China-Wide Entity

Under Commerce's policy regarding the conditional review of the China-wide entity,¹⁵ the China-wide entity will not be under review unless a party specifically requests, or Commerce self-initiates, a review of the entity. Because no party requested a review of the China-wide entity in this review, the entity is not under review, and the entity's rate (i.e., 154.07 percent) is not subject to change.¹⁶

¹⁵ See Antidumping Proceedings: Announcement of Change in Department Practice for Respondent Selection in Antidumping Duty Proceedings and Conditional Review of the Nonmarket Economy Entity in NME Antidumping Duty Proceedings, 78 FR 65963 (November 4, 2013).

¹⁶ See Order, 78 FR at 43144.

Aside from Deosen Biochemical Ltd., for which we preliminarily find no shipments, and CP Kelco Shandong, for which this review is being rescinded, Commerce considers all other companies for which a review was requested and did not demonstrate separate rate eligibility to be part of the China-wide entity.¹⁷ For these preliminary results, we consider Shanghai Smart Chemicals Co. Ltd. to be part of the China-wide entity because it did not file a separate rate application or certification. For additional information, see the Preliminary Decision Memorandum.

¹⁷ See Initiation Notice, 89 FR at 66036 (“All firms listed below that wish to qualify for separate rate status in the administrative reviews involving NME countries must complete, as appropriate, either a separate rate application or certification, as described below.”).

Preliminary Results of Review

We preliminarily determine that the following weighted-average dumping margins exist for the POR July 1, 2023, through June 30, 2024:

Exporter | Weighted-average dumping margin (percent)
Deosen Biochemical (Ordos) Ltd | 0.0
Neimenggu Fufeng Biotechnologies Co., Ltd. (aka Inner Mongolia Fufeng Biotechnologies Co., Ltd.)/Shandong Fufeng Fermentation Co., Ltd./Xinjiang Fufeng Biotechnologies Co., Ltd | 0.0
Non-Individually Examined Companies Receiving a Separate Rate
Jianlong Biotechnology Co., Ltd. (formerly, Inner Mongolia Jianlong Biochemical Co., Ltd.) | 0.0
Jilin Meihua Amino Acid Co., Ltd | 0.0
Meihua Group International Trading (Hong Kong) Limited/Langfang Meihua Biotechnology Co., Ltd.,/Xinjiang Meihua Amino Acid Co., Ltd | 0.0
Ningxia Top Hydrocolloids Co., Ltd | 0.0

Disclosure

Commerce intends to disclose its calculations and analysis performed to interested parties for these preliminary results of this administrative review within five days of any public announcement or, if there is no public announcement, within five days of the date of publication of this notice in the Federal Register, in accordance with 19 CFR 351.224(b).

Public Comment

Interested parties may submit case briefs to Commerce no later than 21 days after the date of publication.¹⁸ Rebuttal briefs, limited to issues raised in the case briefs, may be filed with Commerce no later than five days after the date for filing case briefs.¹⁹ Parties who submit case or rebuttal briefs in this proceeding are requested to submit with each argument: (1) a statement of the issue, (2) a brief summary of the argument, and (3) a table of authorities.²⁰

¹⁸ See 19 CFR 351.309(c)(1)(ii).

¹⁹ See 19 CFR 351.309(d).

²⁰ See 19 CFR 351.309(c)(2) and (d)(2).

As provided under 19 CFR 351.309(c)(2)(iii) and (d)(2)(iii), we request that interested parties provide at the beginning of their briefs a public, executive summary for each issue raised in their briefs.²¹ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²²

²¹ We use the term “issue” here to describe an argument that Commerce would normally address in a comment of the Issues and Decision Memorandum.

²² See APO and Service Procedures.

Interested parties who wish to request a hearing must submit a written request to the Assistant Secretary for Enforcement and Compliance, filed electronically via ACCESS.²³ Requests should contain: (1) the party's name, address, and telephone number; (2) the number of participants and whether any participant is a foreign national; and (3) a list of issues to be discussed. Issues raised in the hearing will be limited to those raised in case and rebuttal briefs.²⁴ If a request for a hearing is made, Commerce intends to hold the hearing at a time and date to be determined. A hearing request must be filed electronically using ACCESS and received in its entirety by 5:00 p.m. Eastern Time within 30 days after the publication of this notice.

²³ See 19 CFR 351.310(c).

²⁴ See 19 CFR 351.310.

Final Results of Review

Unless otherwise extended, commerce intends to issue the final results of this administrative review, including the results of its analysis of the issues raised in any written briefs, not later than 120 days after the date of publication of this notice in the Federal Register, pursuant to section 751(a)(3)(A) of the Act and 19 CFR 351.213(h)(1).

Assessment Rates

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

We will calculate importer/customer-specific assessment rates equal to the ratio of the total amount of dumping calculated for examined sales to a particular importer/customer to the total entered value of those sales, in accordance with 19 CFR 351.212(b)(1).²⁵ Where the respondent reported reliable entered values, Commerce intends to calculate importer/customer-specific ad valorem assessment rates by dividing the total amount of dumping calculated for all reviewed U.S. sales to the importer/customer by the total entered value of the merchandise sold to the importer/customer.²⁶ Where the respondent did not report entered values, Commerce will calculate importer/customer-specific assessment rates by dividing the total amount of dumping calculated for all reviewed U.S. sales to the importer/customer by the total quantity of those sales. Commerce will calculate an estimated ad valorem importer/customer-specific assessment rate to determine whether the per-unit assessment rate is de minimis; however, Commerce will use the per-unit assessment rate where entered values were not reported.²⁷ Where an importer/customer-specific ad valorem assessment rate is not zero or de minimis, Commerce will instruct CBP to collect the appropriate duties at the time of liquidation. Where either the respondent's ad valorem weighted-average dumping margin is zero or de minimis, or an importer/customer-specific ad valorem assessment rate is zero or de minimis,²⁸ Commerce will instruct CBP to liquidate the appropriate entries without regard to antidumping duties.

²⁵ We applied the assessment rate calculation method adopted in Antidumping Proceedings: Calculation of the Weighted-Average Dumping Margin and Assessment Rate in Certain Antidumping Proceedings: Final Modification, 77 FR 8101 (February 14, 2012).

²⁶ See 19 CFR 351.212(b)(1).

²⁷ Id.

²⁸ See 19 CFR 351.106(c)(2).

For respondents not individually examined in this administrative review that qualified for a separate rate, the assessment rate will be equal to the weighted-average dumping margin assigned to the respondent in the final results of this review.²⁹

²⁹ See Drawn Stainless Steel Sinks from the People's Republic of China: Preliminary Results of the Antidumping Duty Administrative Review and Preliminary Determination of No Shipments: 2014-2015, 81 FR 29528 (May 12, 2016), and accompanying PDM, at 10-11, unchanged in Drawn Stainless Steel Sinks from the People's Republic of China: Final Results of Antidumping Duty Administrative Review; Final Determination of No Shipments; 2014-2015, 81 FR 54042 (August 15, 2016).

Pursuant to Commerce's refinement of its practice, for sales that were not reported in the U.S. sales database submitted by a respondent individually examined during this review, Commerce will instruct CBP to liquidate the entry of such merchandise at the dumping margin assigned to the China-wide entity.³⁰ Additionally, where Commerce determines that an exporter under review had no shipments of subject merchandise to the United States during the POR, any suspended entries of subject merchandise that entered under that exporter's CBP case number during the POR will be liquidated at the dumping margin assigned to the China-wide entity.

³⁰ For a full discussion of this practice, see Non-Market Economy Antidumping Proceedings: Assessment of Antidumping Duties, 76 FR 65694 (October 24, 2011).

In accordance with section 751(a)(2)(C) of the Act, the final results of this review shall be the basis for the assessment of antidumping duties on entries of merchandise covered by the final results of this review and for future deposits of estimated antidumping duties, where applicable.

Cash Deposit Requirements

The following cash deposit requirements will be effective for all shipments of xanthan gum from China entered, or withdrawn from warehouse, for consumption on or after the date of publication of the notice of the final results of this administrative review in the Federal Register, as provided for by section 751(a)(2)(C) of the Act: (1) for companies granted a separate rate in the final results of this review, the cash deposit rate will be equal to the weighted-average dumping margin established in the final results of this review for the company (except, if the rate is zero or de minimis, then a cash deposit rate of zero will be required); (2) for previously investigated or reviewed China and non-China exporters not listed above that received a separate rate in a prior segment of this proceeding, the cash deposit rate will continue to be the existing exporter-specific rate; (3) for all China exporters of subject merchandise that have not been found to be entitled to a separate rate, the cash deposit rate will be the rate for the China-wide entity, which is 154.07 percent; and (4) for all non-China exporters of subject merchandise that have not received their own rate, the cash deposit rate will be the rate applicable to China exporter(s) that supplied that non-China exporter. These deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties and/or countervailing duties.

Notification to Interested Parties

Commerce is issuing and publishing these preliminary results in accordance with sections 751(a)(1) and 777(i)(1) of the Act, and 19 CFR 351.213(d)(4) and 351.221(b)(4).

Dated: January 5, 2026.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Partial Rescission of Administrative Review

V. Preliminary Determination of No Shipments

VI. Single Entity Treatment

VII. Discussion of the Methodology

VIII. Currency Conversion

IX. Recommendation

[FR Doc. 2026-00212 Filed 1-8-26; 8:45 am]

BILLING CODE 3510-DS-P